DEPARTMENT OF COMMERCE

National Technical Information Service

National Technical Information Service Advisory Board

AGENCY: National Technical Information Service, Commerce.

ACTION: Notice of Open Meeting.

SUMMARY: This notice announces the next meeting of the National Technical Information Service Advisory Board (the Advisory Board), which advises the Secretary of Commerce and the Director of the National Technical Information Service (NTIS) on policies and operations of the Service.

DATES: The Advisory Board will meet on Friday, April 25, 2014 from 9:30 a.m. to approximately 3:00 p.m.

ADDRESSES: The Advisory Board will be held in Room 116 of the NTIS Facility at 5301 Shawnee Road, Alexandria, Virginia 22312. Please note admittance instructions under the SUPPLEMENTARY INFORMATION section of this notice.

FOR FURTHER INFORMATION CONTACT: Mr. Bruce Borzino, (703) 605-6405, bborzino@ntis.gov.

SUPPLEMENTARY INFORMATION: The NTIS Advisory Board is established by Section 3704b(c) of Title 15 of the United States Code. The charter has been filed in accordance with the requirements of the Federal Advisory Committee Act, as amended (5 U.S.C. App.).

The morning session will focus on a review of NTIS performance in the first half of Fiscal Year 2014. The afternoon session is expected to focus on program plans for the remainder of Fiscal Year 2014. A final agenda and summary of the proceedings will be posted at NTIS Web site as soon as they are available (http://www.ntis.gov/about/advisorybd.aspx).

The NTIS Facility is a secure one. Accordingly persons wishing to attend should call the NTIS Visitors Center, (703) 605-6040, to arrange for admission. If there are sufficient expressions of interest, up to one-half hour will be reserved for public comments during the afternoon session. Questions from the public will not be considered by the Board but any person who wishes to submit a written question for the Board's consideration should mail or email it to the NTIS Visitor Center, bookstore@ntis.gov, not later than April 16, 2013.

Dated: March 31, 2014.
Bruce Borzino,
Director.

[FR Doc. 2014-07451 Filed 4-2-14; 8:45 am]

BILLING CODE 3510-04-P